NUCLEAR REGULATORY COMMISSION

[Docket No. 40-3453-MLA-5; ASLBP No. 00-781-07-MLA]

Moab Mill Reclamation Trust; Designation of Presiding Officer

Pursuant to delegation by the Commission, see 37 FR 28,710 (Dec. 29, 1972), and the Commission's regulations, see 10 CFR §§ 2.1201, 2.1207, notice is hereby given that (1) a single member of the Atomic Safety and Licensing Board Panel is designated as Presiding Officer to rule on petitions for leave to intervene and/or requests for hearing; and (2) upon making the requisite findings in accordance with 10 CFR § 2.1205(h), the Presiding Officer will conduct an adjudicatory hearing in the following proceeding:

Moab Mill Reclamation Trust Moab, Utah

The hearing will be conducted pursuant to 10 CFR Part 2, Subpart L, of the Commission's Regulations, “Informal Hearing Procedures for Adjudications in Materials and Operator Licensing Proceedings.” This proceeding concerns a May 17, 2000 request for hearing submitted by petitioner Sarah M. Fields. The request was filed in response to a March 31, 2000 request from Moab Mill Reclamation Trust (MMRT) to revise site-reclamation milestones in its source material license for the Moab, Utah facility. The notice of receipt of the MMRT request to revise site-reclamation milestones and opportunity for hearing was published in the Federal Register on April 17, 2000 (65 FR 20,490).

The Presiding Officer in this proceeding is Administrative Judge Charles Bechhoefer. Pursuant to the provisions of 10 CFR §§ 2.722, 2.1209, Administrative Judge Frederick J. Shon has been appointed to assist the Presiding Officer in taking evidence and in preparing a suitable record for review.

All correspondence, documents, and other materials shall be filed with Judges Bechhoefer and Shon in accordance with 10 CFR § 2.1203. Their addresses are:

Administrative Judge Charles Bechhoefer, Presiding Officer, Atomic Safety and Licensing Board Panel, U.S. Nuclear Regulatory Commission, Washington, DC 20555-0001

Administrative Judge Frederick J. Shon, Special Assistant, Atomic Safety and Licensing Board Panel, U.S. Nuclear Regulatory Commission, Washington, DC 20555-0001

Issued at Rockville, Maryland, this 7th day of July 2000.
G. Paul Bollwerk, III,
Chief Administrative Judge, Atomic Safety and Licensing Board Panel.

[FR Doc. 00-17781 Filed 7-12-00; 8:45 am]

BILLING CODE 7590-01-P